FEDERAL COMMUNICATIONS COMMISSION

47 CFR Part 73

[MM Docket No. 87-260; RM-5728]

Radio Broadcasting Services; Olive Branch, MS

AGENCY: Federal Communications Commission.

ACTION: Final rule; correction.

SUMMARY: The Federal Communications Commission published in the Federal Register of June 22, 1988, a document concerning updating the FM Table of Allotments for Section 73.202(b) under Mississippi. The spelling of the community was incorrect. This document corrects the spelling of the community.

DATES: Effective on March 25, 2002.

FOR FURTHER INFORMATION CONTACT: Kathleen Scheuerle, Mass Media Bureau, (202) 418-2180.

SUPPLEMENTARY INFORMATION: On June 22, 1988, the Commission published a document (53 FR 23369) amending § 73.202(b), the FM Table of Allotments, by adding Channel 239A at Olive Branch, Mississippi. The name of the community was listed in the FM Table of Allotments as “Olive Brance” in lieu of Olive Branch. This document corrects the spelling of the community.

Federal Communications Commission.
John A. Karousos,
Chief, Allocations Branch, Policy and Rules Division, Mass Media Bureau.

[FR Doc. 02-7019 Filed 3-22-02; 8:45 am]

BILLING CODE 6712-01-P